FEDERAL ELECTION COMMISSION

Sunshine Act Notices

AGENCY: Federal Election Commission.

Date and Time: Thursday, October 23, 2008 at 10 a.m.

Place: 999 E Street, NW., Washington, DC (Ninth Floor).

Status: This meeting will be open to the public.

Items to be Discussed:

Correction and Approval of Minutes.

Draft Advisory Opinion 2008-10: VoterVoter.com by Joseph M. Birkenstock, Esquire.

Draft Advisory Opinion 2008-15: National Right to Life Committee, Inc., by James Bopp, Jr., Esquire, and Clayton J. Callen, Esquire.

Management and Administrative Matters.

Person to contact for information: Robert Biersack, Press Officer, Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. E8-25045 Filed 10-22-08; 8:45 am]

BILLING CODE 6715-01-M